DEPARTMENT OF THE INTERIOR

National Park Service

New Merced Wild and Scenic River Comprehensive Management Plan; Yosemite National Park; Mariposa and Madera Counties, CA; Notice of Intent To Prepare Environmental Impact Statement

Summary: Pursuant to the National Environmental Policy Act (Pub. L. 91-190) and the Wild and Scenic Rivers Act (Pub. L. 90-542), the National Park Service is reopening public scoping for planning and environmental impact analysis for a new Merced Wild and Scenic River Comprehensive Management Plan and Environmental Impact Statement (NMRP/EIS) in Yosemite National Park. The NMRP/EIS will serve as a comprehensive “blueprint” sufficient to guide future management of the Merced River corridor in Yosemite National Park.

Background: In 1987, Congress designated 122 miles of the Merced River and its South Fork as Wild and Scenic, including the 81 miles within Yosemite National Park and the El Portal Administrative Site. The National Park Service (NPS) completed the Merced Wild and Scenic River Comprehensive Management Plan/Final Environmental Impact Statement in August 2000. Soon after, two citizens' groups filed suit in the U.S. District Court for the Eastern District of California, resulting in the production of the Merced Wild and Scenic River Revised Comprehensive Management Plan/Supplemental Environmental Impact Statement (MCMP/SEIS) in 2005. Subsequent court proceedings culminated in a 2006 U.S. District Court decision that invalidated the park's MCMP/SEIS and ordered the NPS to prepare a new comprehensive management plan. On January 9, 2007, the NPS proposed a 33-month timeline to the court for the preparation of the NMRP/EIS, which would result in a Record of Decision on September 30, 2009. The NPS initiated public scoping for the NMRP on March 28, 2007; a Notice of Intent to prepare an Environmental Impact Statement was published on April 11, 2007 in the Federal Register (public scoping lasted 74 days, closing on June 10, 2007). Concurrently, the NPS appealed U.S. District Court's decision that the 2005 MCMP/SEIS was invalid. On March 27, 2008 the U.S. Court of Appeals for the Ninth Circuit (Ninth Circuit) issued an opinion affirming the judgment of the District Court and expanding the scope of what the NPS had previously understood must be included in a legally valid Merced Wild and Scenic River Comprehensive Management Plan. Consequently the NPS is reopening public scoping for the NMRP/EIS so as to provide additional opportunity for public involvement in developing a new plan.

The NMRP/EIS will address: resource protection; existing and potential development of lands and facilities; user capacities; and the kinds and amounts of use which the river area can sustain without impacting values for which it was designated. It will identify specific management measures that will be used to protect and enhance the outstandingly remarkable values (ORVs) for each of the river segments, including the scenic, recreational, geological, fish and wildlife, historic, cultural or other similar values. In addition, the NMRP/EIS will address the quantity and mixture of recreation and other public uses that may be permitted without adverse impact to the ORVs, including a discussion of the maximum number of people that may be received at the river while protecting and enhancing the values for which the Merced and South Fork Merced were included in the Wild and Scenic Rivers system.

Scoping and Public Meetings: The purpose of re-opening scoping is to receive any new public comments about issues and concerns that should be addressed in the New MRP/EIS, including a suitable range of alternatives, appropriate mitigation measures, and the nature and extent of potential environmental impacts. Given that all prior scoping comments remain under consideration, at this time only pertinent information or concerns not previously provided need to be submitted. Broad participation of interested individuals and organizations is important to the planning and analysis process. During this concluding phase, the public is invited to share new concerns that should be considered in the development of the draft NMRP/EIS. Yosemite National Park will also further consult tribal, federal, state, and local governments. The renewed opportunity for scoping will be posted on the park Web site, and press releases will be distributed to local and regional media. Dates, times, specific locations, and additional information will be released through regional and local news sources, and updates will be posted at www.nps.gov/yose/planning/mrp. In addition, updates regarding future public involvement opportunities, including workshops for alternatives formulation and later release of the draft NRMP/EIS for public review, will be similarly announced in regional news media and on the park's Web site, and through direct mailings.

Written comments should be addressed to the Superintendent, Attn: Merced River Plan, Yosemite National Park, PO Box 577, Yosemite National Park, CA 95389, or faxed to (209) 379-1294, and must be postmarked or transmitted not later than 60 days from the publication date of this NOI in the Federal Register (immediately upon confirmation of this date it will be posted on the park's Web site and announced via local and regional press). Before including your address, phone number, e-mail address, or other personal identifying information in your comment, be advised that your entire comment—including your personal identifying information—may be made publicly available at any time. While you can ask us in your comment to withhold from public review your personal identifying information, we cannot guarantee that we will be able to do so.

Decision Process: At this time it is expected that following due consideration of all comments on the draft NRMP/EIS as may be received, the final NMRP/EIS would be made available during spring-summer 2012, with preparation of a Record of Decision anticipated during September, 2012. As a delegated EIS the official responsible for final approval of the NMRP/EIS is the Regional Director, Pacific West Region. Subsequently the official responsible for implementing the approved new Merced Wild and Scenic River Comprehensive Management Plan would be the Superintendent, Yosemite National Park.

Dated: March 10, 2009.
Jonathan B. Jarvis,
Regional Director, Pacific West Region.

[FR Doc. E9-15429 Filed 6-29-09; 8:45 am]

BILLING CODE 4312-FY-P